ENVIRONMENTAL PROTECTION AGENCY

[FRL-7130-2]

Benfield Industries Superfund Site; Notice of Proposed Settlement

AGENCY: Environmental Protection Agency.

ACTION: Notice; request for public comment.

SUMMARY: Under the Comprehensive Environmental Response, Compensation, and Liability Act, as amended (“CERCLA”), the United States Environmental Protection Agency (“EPA”) proposes to enter into a Prospective Purchaser Agreement (“PPA”) regarding the Benfield Industries Superfund Site in Waynesville, Haywood County, North Carolina. EPA proposes to enter into the PPA with the party who purchases the property pursuant to a judgment sale conducted by the Haywood County Sheriff (the “Purchaser”). The PPA obligates the Purchaser to cooperate with any response actions EPA may take on the property, to grant EPA access for any such response actions, and to comply with specified institutional controls. Further, the PPA provides the Purchaser with a covenant not to sue from the United States for Existing Contamination on the property. The covenant is conditioned upon the Purchaser's fulfilling its obligations under the PPA. EPA will consider comments on the proposed PPA for thirty (30) days.

EPA may withdraw from or modify the proposed PPA should such comments disclose facts or considerations which indicate the proposed PPA is inappropriate, improper, or inadequate. Copies of the proposed settlement are available from: Ms. Paula V. Batchelor, U.S. Environmental Protection Agency, Region IV, Waste Management Division, 61 Forsyth Street, SW., Atlanta, Georgia 30303, 404/562-8887.

Written comments may be submitted to Ms. Batchelor at the above address within 30 days of the date of publication.

Dated: December 21, 2001.
Anita L. Davis,
Acting Chief, CERCLA Program Services Branch, Waste Management Division.

[FR Doc. 02-1349 Filed 1-17-02; 8:45 am]

BILLING CODE 6560-50-P